ENVIRONMENTAL PROTECTION AGENCY

40 CFR Part 52

[PA 150-4108; FRL-6980-3]

Approval and Promulgation of Air Quality Implementation Plans; Pennsylvania; Conversion of the Conditional Approval of the 15 Percent Plan for the Pennsylvania Portion of the Philadelphia-Wilmington-Trenton Ozone Nonattainment Area to a Full Approval

AGENCY: Environmental Protection Agency (EPA).

ACTION: Proposed rule.

SUMMARY: EPA is proposing to convert its conditional approval of a State Implementation Plan (SIP) revision submitted by the Commonwealth of Pennsylvania to a full approval. This revision satisfies the conditions imposed by EPA on our approval of the 15 percent reasonable further progress plan (15% plan) requirement of the Clean Air Act (the Act) for Pennsylvania's portion of the Philadelphia-Wilmington-Trenton ozone nonattainment area (the Philadelphia area). EPA is proposing to convert its conditional approval of this 15% plan to full approval because the Commonwealth has fulfilled its obligation and satisfied the conditions imposed in EPA's conditional approval of the 15% plan for the Philadelphia area. The intended effect of this action is to convert our conditional approval of Pennsylvania's 15% plan SIP for the Philadelphia area to a full approval.

DATES: Written comments must be received on or before June 15, 2001.

ADDRESSES: Written comments may be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103. They are also available at the Pennsylvania Department of Environmental Protection, Bureau of Air Quality, P.O. Box 8468, 400 Market Street, Harrisburg, Pennsylvania 17105.

FOR FURTHER INFORMATION CONTACT: Brian Rehn, by phone at: (215) 814-2176 (at the EPA Region III address above), or by e-mail at: rehn.brian@epa.gov.

SUPPLEMENTARY INFORMATION:

I. Background

On June 5, 1998, the Pennsylvania Department of Environmental Protection (PA DEP) submitted a revision to the Pennsylvania State Implementation Plan (SIP) for its portion of the Philadelphia ozone nonattainment area. The revision consists of an amendment to its plan to achieve a 15% reduction from 1990 base year levels in volatile organic compound (VOC) emissions. The previous version of Pennsylvania's 15% plan for its portion of the Philadelphia ozone nonattainment area was conditionally approved by EPA on June 9, 1997 (62 FR 31343). Pennsylvania's June 1998 revision to that 15% plan was done in order to satisfy conditions imposed by EPA in its conditional approval of the Commonwealth's plan.

The Philadelphia ozone nonattainment area consists of six counties in Southern New Jersey (Burlington, Camden, Cumberland, Gloucester, Mercer, and Salem), two counties in Northern Delaware (Kent and New Castle), one county in Maryland (Cecil), and five counties in Southeastern Pennsylvania (Bucks, Chester, Delaware, Montgomery, and Philadelphia). Each of the states comprising the multi-state ozone nonattainment area submitted its own 15% plan to achieve reasonable further progress towards attainment of the ozone standard. EPA has taken separate rulemaking action on each state's plan.

EPA is taking action today on the revised 15% plan SIP for Pennsylvania's portion of the Philadelphia nonattainment area, submitted to EPA by PA DEP on June 5, 1998. These revisions to the plan satisfy the conditions stipulated by EPA in its June 9, 1997 conditional approval of the previous Philadelphia 15% plan. Those approval conditions related to the I/M program upon which the 15% plan relies (and which were conditions of EPA's approval of the I/M program).

EPA is proposing in this rulemaking to convert the June 9, 1997 conditional approval of Pennsylvania's 15% plan for the Philadelphia area to a full approval. The basis for this action is that EPA has determined that Pennsylvania has fulfilled all of the conditions imposed by EPA's conditional approval.

II. Pennsylvania's Calculation of the 15% Plan Target Level

As stated above, the subject of this rulemaking is Pennsylvania's June 5, 1998 revision to the 15% plan, submitted by the Commonwealth to remedy conditions imposed by EPA in its June 9, 1997 approval of the original 15% plan. These conditions of the June 9, 1997 approval are related to the I/M program and the modeling of the credits for that program that impact the target level of the 15% plan. Only those aspects of this target level calculation associated with the conditions of EPA's approval (i.e., related to Pennsylvania's June 5, 1998 SIP revision) are the subject of today's proposed rulemaking action by EPA. For clarity, however, the entire calculation process is set forth below.

A. Base Year Emission Inventory

The baseline from which the required reductions towards the 15% plan goal are applied is the 1990 base year emission inventory. The first step in calculating a 15% target is a 15% plan 1990 base year inventory. The inventory is broken down into four emissions source sectors: stationary, or point, sources; area sources; on-road, or highway, mobile sources; and off-highway, or non-road, mobile sources. The base year inventory includes emissions of all sources within the nonattainment area and certain large point sources within twenty-five miles of the boundary.

For purposes of planning reasonable further progress towards attainment (e.g., 15% planning), a subset of the 1990 base year inventory is used. This 1990 rate-of-progress (ROP) inventory includes only anthropogenic emissions that occurred within the boundaries of the subject nonattainment area. EPA approved Pennsylvania's 1990 base year inventory SIP revision for the Philadelphia area in its June 9, 1997 conditional approval of the 15% plan (62 FR 31343).

B. Growth in Emissions Between 1990 and 1996

EPA interprets the Clean Air Act to require that reasonable further progress towards attainment of the ozone standard must occur after offsetting any growth in the level of emissions expected to occur over the period being considered. To meet the 15% reasonable further progress requirement, a state must enact measures to offset projected growth in VOC emissions, in addition to a 15% reduction of 1996 VOC emissions (compared with 1990 levels). For a detailed description of the growth methodologies used by Pennsylvania, please refer to EPA's June 9, 1997 conditional approval of Pennsylvania's 15% plan (62 FR 31343), Pennsylvania's September 12, 1996 SIP (and related addendums), and the Technical Support Document (TSD) prepared for EPA's June 9, 1997 conditional approval action.

C. Enhanced Vehicle Inspection and Maintenance (I/M) Program

Both of the conditions listed in EPA's June 9, 1997 conditional approval of Pennsylvania's 15% plan for Philadelphia were related to Pennsylvania's enhanced I/M program for motor vehicles. The first of these conditions required Pennsylvania to “meet the conditions listed in the January 28, 1997 conditional interim inspection and maintenance (I/M) rulemaking (approval) notice”. The second condition required Pennsylvania to remodel the I/M reductions credited towards the 15% plan using the EPA guidance memoranda: “Modeling 15 Percent VOC Reductions from I/M in 1999—Supplemental Guidance”, from Gay McGregor and Sally Shaver, dated December 23, 1996. The policy for this I/M remodeling methodology is derived from another EPA guidance memoranda entitled, “Date by which States Need to Achieve All the Reductions Needed for the 15 Percent Plan from I/M and Guidance for Recalculation,” from John Seitz and Margo Oge, dated August 13, 1996.

With respect to the approval status of its I/M program SIP, Pennsylvania has remedied the related condition upon EPA's approval of the Philadelphia 15% plan. The I/M program had been conditionally approved by EPA (62 FR 4004, January 28, 1997). However, Pennsylvania has since revised the enhanced I/M program SIP to address the conditions of EPA's January 1997 approval. On June 17, 1999 (64 FR 32411), EPA published a direct final rule converting the conditional approval of Pennsylvania's I/M program to full approval. EPA's basis for conversion of the I/M program SIP to full approval was that Pennsylvania had remedied all of the conditions set forth in the January 28, 1997 conditional approval.

With respect to the condition upon approval of the 15% plan related to the claimed credits in the 15% plan for the I/M program SIP, Pennsylvania addressed this condition submitting a remodeling analysis of the I/M program benefits (following the guidelines set forth by EPA's guidance memos on the subject) in its June 5, 1998 SIP revision. That SIP revision is the subject of this proposed action. A discussion of the resulting recalculation of the highway mobile source projection inventory and the resultant 15% plan target level is discussed later in this action. Pennsylvania has properly followed EPA's guidance in its remodeling analysis.

D. Target Level Emissions/Emission Reductions Needed for the 15% Reduction

As part of its remodeling analysis to determine the amount of VOC reductions from the I/M program needed for the 15% plan, Pennsylvania remodeled the benefits from all of its 15% plan control measures that reduce highway source emissions. Highway mobile source emissions are modeled using an emission factor model called MOBILE. In assessing highway mobile source emissions, the benefits from all highway emission control strategies must be evaluated. In addition to the enhanced I/M program, such control measures include: the use of Federal reformulated gasoline (RFG) in highway vehicles and the implementation of new (i.e., post-1990) vehicle standards that are part of the Federal Motor Vehicle Control Program (FMVCP). Per EPA guidance, this MOBILE remodeling demonstration compares the highway mobile source target level in 1999 versus the highway mobile source target level for 1996 performed for the original 15% plan.

EPA approves of the Commonwealth's remodeling demonstration submitted with the June 5, 1998 revised 15% plan. This revised plan properly accounts for the “1996 target level”, which is then compared to the projections of actual “1996 controlled emissions”.

EPA approves of the revised mobile source target level calculation for Philadelphia, and the resultant overall corrected target level. The overall corrected target level is 487.89 tons per day (tpd). A detailed description of the revised target level calculation process is described in more detail below, and in the Technical Support Document prepared in support of this proposed rulemaking action.

EPA's interpretation of section 182(b) of the Act requires states to adjust the base year VOC emission inventory for the 15% plan to account for non-creditable VOC reductions (i.e., that were required to occur prior to the 1990 Clean Air Act Amendments). In calculating its target level, Pennsylvania's plan subtracts those reductions occurring between 1990 and 1996 from the pre-1990 FMVCP and low-RVP gasoline programs from the 1990 15% plan base inventory. The result is the “1990 base year inventory adjusted to 1996”.

Pennsylvania's 15% plan relies upon reductions from an enhanced I/M program to achieve the required 15% level as soon after November 15, 1996 as practicable, but not later than 1999. Therefore, Pennsylvania was required to remodel the benefits of its I/M program in the 15% plan. EPA's applicable remodeling guidance requires that the base year inventory must also be calculated for 1999. This 1999 base year inventory must then be adjusted in the same way to remove non-creditable, pre-1990 control measure reductions from the inventory for the period from 1996 to 1999. Pennsylvania's 15% plan contains a calculation of those non-creditable emissions occurring between 1996 and 1999. These non-creditable emissions cannot be used toward the 15% plan goal, and they are therefore subtracted from the 1990 base year inventory for the 15% plan. The result yields the “1990 base year inventory adjusted to 1999.”

Pennsylvania calculated a base 1996 VOC target level by taking 85% of the “1990 adjusted base year inventory for 1996.” Per EPA guidance, the non-creditable reductions were then subtracted from the “base” 1996 VOC target level to yield a “final” 1996 VOC target level for the 15% plan. See Table 1 below, for a summary of the calculation of the target level.

Table 1.—Required Reductions for the Pennsylvania Portion of the Metropolitan Philadelphia-Wilmington-Trenton, PA-DE-NJ Nonattainment Area 15% Plan
[Tons/day]
Steps | Calculation method | Tons per day (tpd)
Revised 15% Plan Target Level/I/M Remodeling Calculation: 5-County Philadelphia, PA Area
1990 Rate-of-Progress Base Year Inventory |  | 615.56
1. Calculate the 1990 base year inventory (relative to 1996) | [1996 MOBILE factor (w/CAA controls off) × 1990 VMT] + non-inventory mobile 1990 inventory | 582.53
2. Calculate the 1996 base year (relative to 1999) | [1999 MOBILE factor (w/CAA controls off) × 1990 VMT] + non-inventory mobile 1990 inventory | 576.11
3. Calculate non-creditable fleet turnover between 1996 and 1999 | 1990 base (for 1996) − 1990 base (for 1999); or, (Step 2 − Step 1) | 6.42
4. Calculate the “base” 1996 target level | 1990 adjusted base (for 1996) × 0.85 − RACT Fix-Ups; or, (Step 1 × 0.85) − RACT fix-ups (0.84 tpd) | 494.31
5. Correct the 1996 target level (“final” target level) | 1996 target level − 1996-1999 non-creditable emissions; or, (Step 4 − Step 3) | 487.89
6. Projected 1996 Uncontrolled Emissions |  | 617.95
7. Projected 1996 Controlled Inventory | Remodeled highway emissions + remainder of existing 1996 projected inventory (i.e., point, area, non-road emissions) [84.58 + 151.15 + 153.98 + 81.33] | 476.53
8. Required Emission Reductions for 15% plan | (Line 6 − Line 5) | 130.06
Total Reductions Claimed from 15% Plan Control Measures |  | 133.63

The reduction in emissions needed to meet the 15% reasonable further progress requirement equals the difference between the projected 1996 emissions under the pre-1990 Clean Air Act control strategy (i.e., the 1996 uncontrolled emissions) and the 15% plan target level. The difference between these two numbers reflects a 15% reduction from the adjusted base year inventory, including any additional reductions necessary to offset projected emissions growth between 1990 and 1996. For Philadelphia, the calculated target level is 487.89 tons per day. EPA is proposing to accept this final, corrected target level for the Pennsylvania portion of the Philadelphia area.

E. Determination That Revised 15% Plan Achieves Reasonable Further Progress

As part of the 15% plan I/M remodeling process, the inventory, target level, and projected reduction levels from the control measures claimed in the 15% plan were recalculated. After completion of the revised target level calculation, the Commonwealth was required to demonstrate that that the control measures in the 15% plan will ensure sufficient reductions to achieve the revised target level. Under the revised 15% plan, the emissions reductions claimed for the Philadelphia 15% plan increased from 127.91 tons per day to 133.63 tons per day.

EPA agrees with the Commonwealth's calculations and methodology used in the revised plan to justify this number. Pennsylvania properly employed EPA's guidance in calculating the revised estimates. EPA therefore concurs that Pennsylvania must achieve a reduction of at least 130.1 tons per day of creditable emission reductions to demonstrate that its portion of the Philadelphia ozone nonattainment area has met its 15% VOC reduction requirement, as required by the Clean Air Act. EPA believes that Pennsylvania's revised 15% plan has sufficient VOC reductions from its claimed, creditable measures to achieve the required 15% reduction. Pennsylvania claims 133.63 tons per day of VOC reductions, which is sufficient to ensure that reasonable further progress is achieved.

Table 2 below lists the creditable measures, and the VOC reductions claimed for those measures, in Pennsylvania's 15% plan for the Philadelphia area. It should be noted that these are the same measures approved by EPA in the June 9, 1997 conditional approval of Pennsylvania's 15% plan. Due to the I/M remodeling exercise, however, the level of credits associated with the highway mobile source control measures (i.e., I/M, Tier 1 standards, and the Federal reformulated gasoline program) has changed. Since these measures and credit levels were approved by EPA previously, this rulemaking action applies only to the revised credit levels associated with the highway mobile source controls.

Table 2.—Summary of Control Measures for the 15% Plan for the Pennsylvania Portion of the Philadelphia Ozone Nonattainment Area
Pennsylvania Portion of Philadelphia, PA 15% Plan Control Measures
Control measure | Approved by EPA | VOC reduction (tons per day)
Highway Mobile Source Control Measures
Reformulated Gasoline Program | Federal rule | 21.19
Enhanced I/M Program | SIP approved [June 17, 1999 (64 FR 32411)] | 56.91
Tier 1 Motor Vehicle Standards (post-1990 FMVCP) | Federal rule | 6.59
Non-Highway Measures (Point, Area, Non-road)
Reformulated Gasoline Program—Non-road benefits | Federal rule | 0.59
Stage II Gasoline Vapor Recovery | SIP approved [December 13, 1994 (60 FR 63938)] | 17.02
AIM Coatings Reformulation | Federal rule | 7.28
Consumer and Commercial Products Reformulation | Federal rule | 6.58
Autobody Refinishing Reformulation | Federal rule | 6.30
Treatment, Storage, & Disposal Facility (TSDF) Controls | Federal rule | 9.35
Facility Shutdowns | Conditionally Approved Philadelphia 15% Plan approved use of specified banked shutdown credits (under PA banking rule, Chapter 127.206-209) | 1.82
Total Creditable Emission Reductions |  | 133.63

F. Transportation Conformity Budgets

As is the case with any 15% plan, Pennsylvania's 15% plan for its portion of the Philadelphia ozone nonattainment area contains a budget for VOC emissions from on-road mobile sources. By proposing approval of this 15% plan, EPA is proposing to grant a de facto approval of the budget in this plan. However, EPA wishes to clarify that the budget in Pennsylvania's 15% plan for the Philadelphia area will not be the applicable budget for future conformity determinations, because there are budgets for the Philadelphia area that supercede this plan that apply for 1999 and all subsequent years. To verify which budget applies to the Pennsylvania portion of the Philadelphia area, please contact the EPA Regional office listed in the ADDRESSES section above or consult EPA's “Adequacy Review of SIP Submissions for Conformity” web page at http://www.epa.gov/oms/transp/conform/adequacy.htm.

Proposed Action

After review of Pennsylvania's June 5, 1998 revision to the 15% plan SIP for its portion of the Philadelphia-Wilmington-Trenton ozone nonattainment area, EPA has determined that the Commonwealth has remedied all of the EPA-imposed conditions listed in our June 9, 1997 conditional approval (62 FR 31343) of the 15% plan SIP for the Philadelphia area. EPA is therefore proposing to convert its conditional approval of Pennsylvania's 15% plan SIP for the Philadelphia area to a full approval.

EPA is soliciting public comments on this action to convert our conditional approval of the Philadelphia 15% plan to a full approval, based upon Pennsylvania's June 5, 1998 submittal to remedy the conditions. These comments will be considered before the Agency takes final action. Interested parties may participate in the Federal rulemaking procedure by submitting written comments to the EPA Regional office listed in the ADDRESSES section of this document.

I. Administrative Requirements

Under Executive Order 12866 (58 FR 51735, October 4, 1993), this proposed action is not a “significant regulatory action” and therefore is not subject to review by the Office of Management and Budget. This action merely proposes to approve state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule does not impose an information collection burden under the provisions of the Paperwork Reduction Act of 1995 (44 U.S.C. 3501 et seq.).

This proposed rule to convert the conditional approval of the 15% plan for the Pennsylvania portion of Philadelphia to a full approval does not impose an information collection burden under the provisions of the Paperwork Reduction Act of 1995 (44 U.S.C. 3501 et seq.).

List of Subjects in 40 CFR Part 52

Environmental protection, Air pollution control, Carbon monoxide, Hydrocarbons, Nitrogen dioxide, Ozone, Reporting and recordkeeping requirements.

Authority: 42 U.S.C. 7401 et seq.

Dated: May 7, 2001.
W.C. Early,
Acting Regional Administrator, Region III.

[FR Doc. 01-12354 Filed 5-15-01; 8:45 am]

BILLING CODE 6560-50-U